DEPARTMENT OF TRANSPORTATION

Federal Railroad Administration

[Docket Number FRA-2014-0048]

Petition for Waiver of Compliance

In accordance with part 211 of Title 49 Code of Federal Regulations (CFR), this document provides the public notice that by a letter dated May 14, 2014, Union Pacific Railroad (UP), petitioned the Federal Railroad Administration (FRA) for a waiver of compliance from certain provisions of the Federal railroad safety regulations contained at 49 CFR part 232, Brake System Safety Standards for Freight and Other Non-Passenger Trains and Equipment, End-of-Train Devices; 49 CFR part 229, Railroad Locomotive Safety Standards; and 49 CFR part 215, Railroad Freight Car Safety Standards; for locomotives and freight cars received in interchange at El Paso, TX, from the Ferrocarriles Nacionales de Mexico (FXE). FRA assigned the petition Docket Number FRA-2014-0048.

Specifically, UP seeks relief from 49 CFR sections 232.205—Class I brake test-initial terminal inspection, 229.21—Daily inspection, and Part 215—Freight Car Standards, to permit movement from the FXE interchange point at International Yard on the Lordsburg Subdivision to UP's Dallas Street Yard for westbound traffic, a distance of 2.8 miles; and to the UP Alfalfa Yard for eastbound traffic, a distance of 7 miles without complying with the requirements of the above noted regulations. UP currently receives three trains traveling north from Mexico (two auto trains and one manifest train with intermodal cars) and delivers three trains south to Mexico (two manifest trains and one auto train) on a daily basis through the El Paso, TX, River International Yard. Recently, there have been reports of gunfire heard across the border. These reported gunshots are within close proximity to UP employees and contractors. Moreover, many Federal employees, including U.S. Customs and Border Protection agents, U.S. Department of Agriculture Inspecting agents, and FRA inspectors work in the area as well. UP stated that the requested waiver will have no adverse effect on the safety of operations and will greatly reduce risks associated with these operations. UP further stated that FRA granted agreements allowing trains to be moved several miles without Class 1 air brake tests at other cross-border gateways with similar risks.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 2, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on July 17, 2014.
Ron Hynes,
Director, Office of Safety Assurance and Compliance.

[FR Doc. 2014-18212 Filed 7-31-14; 8:45 am]

BILLING CODE 4910-06-P